DEPARTMENT OF HEALTH AND HUMAN SERVICES

Centers for Disease Control and Prevention

[60 Day-10-0539]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam I. Daneshvar, CDC Acting Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Estimating the Capacity for national and State-Level Colorectal Cancer Screening through a Survey of Endoscopic Capacity (SECAP II)—Reinstatement with Changes—Division of Cancer Prevention and Control, National Center for Chronic Disease Prevention and Health Promotion (NCCDPHP), Centers for Disease Control and Prevention (CDC).

Background and Brief Description

Colorectal cancer (CRC) is the second leading cause of cancer-related deaths in the United States (U.S.). Removal of pre-cancerous polyps before they transform into cancer can prevent colorectal cancer from developing. Additionally, early asymptomatic cancers found through screening respond better to treatment than more advanced cancers that are detected once they become symptomatic. As a result, CRC is ideally suited for prevention and early detection through regular screening. Flexible sigmoidoscopy and colonoscopy, two lower gastrointestinal (GI) endoscopic procedures currently recommended as colorectal cancer screening tests, provide direct visualization of the colon, and allow qualified medical professionals to identify and remove polyps as well as to detect early cancers. Both of these tests require specialized training. Flexible sigmoidoscopy provides a view of only the lower half of the colon, but is still used widely. Colonoscopy, which provides a view of the entire colon, is both a primary screening test and the recommended follow-up procedure for any other positive colorectal cancer screening test.

Information regarding the capacity of the U.S. health care system to provide lower GI endoscopic procedures is critical to planning widespread CRC screening programs. In 2002, CDC conducted the National Survey of Endoscopic Capacity (SECAP) (OMB No. 0920-0539, exp. 3/31/2003) to obtain an estimate of the number of colorectal cancer screening and follow-up tests currently being performed, as well as the maximum number of screening and follow-up tests that could be performed in the event of widespread screening. In 2003-2005, CDC conducted similar surveys in 15 selected States to provide estimates at State and sub-State levels (State Survey of Endoscopic Capacity, OMB No. 0920-0590, exp. 6/30/2006). These capacity estimates provided critical information that helped in the planning of National and State colorectal cancer screening efforts. However, in light of recent trends in colorectal cancer screening (e.g., increases in the percentage of public and private insurers that reimburse for screening colonoscopy, increased use of colonoscopy and decreased use of flexible sigmoidoscopy, availability of other colorectal cancer screening procedures), there is a need to update estimates of endoscopic capacity to guide continued screening initiatives.

CDC plans to request OMB approval for three years to conduct a national survey of endoscopic capacity again in 2010-2011, and additional State-level surveys over a three-year period. The proposed national survey will employ the same methodology used in the previous national survey, and the same—but updated—sampling frame. The proposed State-level information collection will include a census survey of selected States, based on methodology employed with the previously fielded State-based survey.

The target population for the national survey will be all facilities in the U.S. that use lower gastrointestinal flexible endoscopic equipment for the detection of colorectal cancer in adults. Information will be collected from a random sample of 1,440 facilities, stratified by U.S. Census region and urban/rural location. Similarly, information will be collected from a census of qualifying facilities in up to 18 selected States. An average of 200 facilities will be invited to participate in each State capacity survey. A total of approximately 1,680 completed State surveys will be collected over the three years of the project. The same survey instrument will be used for both information collections. Minor, non-substantive changes to the self-administered, paper-and-pencil survey instrument will be made to improve usability.

The specific aims of the information collection are to provide: (1) Current estimates of the number of colorectal cancer screening and follow-up procedures being performed; (2) current estimates of the maximum number of procedures that could be performed in the event of widespread screening; and (3) information regarding the types of facilities and providers that perform the procedures.

Facilities will be recruited and screened through a telephone interview. Participation is voluntary and there are no costs to respondents other than their time.

Estimated Annualized Burden Hours
Type of respondent | Form name | Number of respondents | Number of responses per respondent | Average burden per response (in hours) | Total burden (in hours)
Medical Facilities that Perform CRC Screening | National Survey Recruitment Interview | 700 | 1 | 5/60 | 58
| National SECAP Survey | 480 | 1 | 35/60 | 280
| State Survey Recruitment Interview | 800 | 1 | 5/60 | 67
| State SECAP Survey | 560 | 1 | 35/60 | 327
Total |  |  |  |  | 732

Dated: January 22, 2010.
Maryam I. Daneshvar,
Acting Reports Clearance Officer, Centers for Disease Control and Prevention.

[FR Doc. 2010-1907 Filed 1-28-10; 8:45 am]

BILLING CODE 4163-18-P